DEPARTMENT OF COMMERCE

International Trade Administration

[A-570-905]

Certain Polyester Staple Fiber From the People's Republic of China: Preliminary Results of the Antidumping Duty Administrative Review; 2013-2014

AGENCY: Enforcement and Compliance, International Trade Administration, Department of Commerce.

SUMMARY: The Department of Commerce (the “Department”) is conducting an administrative review of the antidumping duty order on certain polyester staple fiber from the People's Republic of China (“PRC”), for the period of review (“POR”), June 1, 2013, to May 31, 2014.

DATES: Effective date: July 22, 2015.

FOR FURTHER INFORMATION CONTACT: Javier Barrientos, AD/CVD Operations, Office V, Enforcement and Compliance, International Trade Administration, Department of Commerce, 14th Street and Constitution Avenue NW., Washington, DC 20230; telephone: (202) 482-2243.

SUPPLEMENTARY INFORMATION

Background

The Department preliminarily determines that Zhaoqing Tifo New Fibre Co., Ltd. (“Zhaoqing Tifo”) failed to establish that it is entitled to a separate rate for the POR and, thus, we are treating Zhaoqing Tifo as part of the PRC-wide entity.¹ In addition, we preliminarily determine that Takayasu Industrial (Jiangyin) Co., Ltd. (“Takayasu”) had no shipments during the POR and, therefore, did not have any reviewable entries. If these preliminary results are adopted in the final results, the Department will instruct U.S. Customs and Border Protection (“CBP”) to assess antidumping duties on all appropriate entries of subject merchandise during the POR. Interested parties are invited to comment on these preliminary results.

¹ See Decision Memorandum from Christian Marsh, Deputy Assistant Secretary for Antidumping and Countervailing Duty Operations, to Paul Piquado, Assistant Secretary for Enforcement and Compliance, entitled “Preliminary Results of 2013-2014 Antidumping Duty Administrative Review: Certain Polyester Staple Fiber from the People's Republic of China” (“Preliminary Decision Memorandum”) issued concurrently with this notice for a complete description of the Scope of the Order.

Scope of the Order

The merchandise subject to the order is certain polyester staple fiber. The product is currently classified under the Harmonized Tariff Schedule of the United States (“HTSUS”) numbers 5503.20.0045 and 5503.20.0065. Although the HTSUS numbers are provided for convenience and customs purposes, the written description of the scope of the order remains dispositive.²

² For a full description of the scope of the Order, see Preliminary Decision Memorandum.

Methodology

The Department conducted this review in accordance with section 751(a)(1)(B) of the Act. For a full description of the methodology underlying our conclusions, see the Preliminary Decision Memorandum.³ The Preliminary Decision Memorandum is a public document and is on file electronically via Enforcement and Compliance's Antidumping and Countervailing Duty Centralized Electronic Service System (“ACCESS”). ACCESS is available to registered users at http://access.trade.gov, and is available to all parties in the Central Records Unit, room B8024 of the main Department of Commerce building. In addition, a complete version of the Preliminary Decision Memorandum can be accessed directly on the internet at http://www.trade.gov/enforcement/. The signed Preliminary Decision Memorandum and the electronic versions of the Preliminary Decision Memorandum are identical in content.

³ A list of topics discussed in the Preliminary Decision Memorandum is provided at Appendix I to this notice.

Preliminary Results of Review

The Department initiated a review for two companies.⁴ The Department preliminarily determines that Zhaoqing Tifo failed to cooperate by not acting to the best of its ability to comply with the Department's request for information and, therefore, is not eligible for a separate rate. Accordingly, the Department preliminarily finds that the PRC-wide entity includes Zhaoqing Tifo.⁵ We also note that the Department's change in policy ⁶ regarding conditional review of the PRC-wide entity applies to this administrative review.⁷

⁴ See Initiation of Antidumping and Countervailing Duty Administrative Reviews, 79 FR 44390 (July 31, 2014).

⁵ See section 776(b) of the Act.

⁶ See Antidumping Proceedings: Announcement of Change in Department Practice for Respondent Selection in Antidumping Duty Proceedings and Conditional Review of the Nonmarket Economy Entity in NME Antidumping Duty Proceedings, 78 FR 65963 (November 4, 2013).

⁷ Under this policy, the PRC-wide entity will not be under review unless a party specifically requests, or the Department self-initiates, a review of the entity. Because no party requested a review of the PRC-wide entity in this review, the entity is not under review.

In addition, the Department preliminarily determines that Takayasu had no shipments during the POR and, therefore, had no reviewable entries.

Public Comment and Opportunity to Request a Hearing

Interested parties may submit case briefs within 30 days after the date of publication of these preliminary results of review.⁸ Rebuttals to case briefs, which must be limited to issues raised in the case briefs, must be filed within five days after the time limit for filing case briefs.⁹ Parties who submit arguments are requested to submit with the argument (a) a statement of the issue, (b) a brief summary of the argument, and (c) a table of authorities.¹⁰ Parties submitting briefs should do so pursuant to the Department's electronic filing system, ACCESS.

⁸ See 19 CFR 351.309(c)(1)(ii).

⁹ See 19 CFR 351.309(d)(1)-(2).

¹⁰ See 19 CFR 351.309(c)(2), (d)(2).

Any interested party may request a hearing within 30 days of publication of this notice.¹¹ Hearing requests should contain the following information: (1) The party's name, address, and telephone number; (2) the number of participants; and (3) a list of the issues to be discussed. Oral presentations will be limited to issues raised in the briefs.¹² If a request for a hearing is made, parties will be notified of the time and date for the hearing to be held at the U.S. Department of Commerce, 14th Street and Constitution Avenue NW., Washington, DC 20230.¹³

¹¹ See 19 CFR 351.310(c).

¹² Id.

¹³ See 19 CFR 351.310(d).

The Department intends to issue the final results of this administrative review, which will include the results of our analysis of all issues raised in the case briefs, within 120 days of publication of these preliminary results in the Federal Register, unless extended, pursuant to section 751(a)(3)(A) of the Act.

Assessment Rates

Upon issuance of the final results, the Department will determine, and CBP shall assess, antidumping duties on all appropriate entries covered by this review.¹⁴ The Department intends to issue assessment instructions to CBP 15 days after the publication date of the final results of this review.

¹⁴ See 19 CFR 351.212(b).

For any individually examined respondent whose weighted average dumping margin is above de minimis (i.e., 0.50 percent) in the final results, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹⁵ Where either a respondent's weighted average dumping margin is zero or de minimis, or an importer- (or customer-) specific ad valorem rate is zero or de minimis, the Department will instruct CBP to liquidate appropriate entries without regard to antidumping duties.¹⁶ We intend to instruct CBP to liquidate entries containing subject merchandise exported by the PRC-wide entity at the PRC-wide rate.

¹⁵ See 19 CFR 351.212(b)(1).

¹⁶ See 19 CFR 351.106(c)(2).

The Department announced a refinement to its assessment practice in non-market economy (“NME”) cases.¹⁷ Pursuant to this refinement in practice, for entries that were not reported in the U.S. sales databases submitted by companies individually examined during the administrative review, the Department will instruct CBP to liquidate such entries at the PRC-wide rate. Additionally, if the Department determines that an exporter had no shipments of the subject merchandise, any suspended entries, other than Takayasu's sample shipments, that entered under that exporter's case number (i.e., at that exporter's rate) will be liquidated at the PRC-wide rate.¹⁸ For Takayasu's sample suspended entries, the Department will instruct CBP to liquidate such entries without regard to antidumping duties.

¹⁷ For a full discussion of this practice, see Non-Market Economy Antidumping Proceedings: Assessment of Antidumping Duties, 76 FR 65694 (October 24, 2011).

¹⁸ Id.

In accordance with section 751(a)(2)(C) of the Act, the final results of this review shall be the basis for the assessment of antidumping duties on entries of merchandise covered by the final results of this review and for future deposits of estimated duties, where applicable.

Cash Deposit Requirements

The following cash deposit requirements will be effective upon publication of the final results of this review for shipments of the subject merchandise from the PRC entered, or withdrawn from warehouse, for consumption on or after the publication date, as provided by sections 751(a)(2)(C) of the Act: (1) For any companies listed that have a separate rate, the cash deposit rate will be that established in the final results of this review (except, if the rate is zero or de minimis, then zero cash deposit will be required); (2) for previously investigated or reviewed PRC and non-PRC exporters not listed that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act and 19 CFR 351.221(b)(4).

Dated: June 30, 2015.
Paul Piquado,
Assistant Secretary for Enforcement and Compliance.

Appendix I—List of Topics Discussed in the Preliminary Decision Memorandum

Summary

1. Summary

2. Case History

3. Scope of the Order

4. Non-Market Economy Status

5. PRC-Wide Entity

6. Preliminary Determination of No Shipments

[FR Doc. 2015-17983 Filed 7-21-15; 8:45 am]

BILLING CODE 3510-DS-P